DEPARTMENT OF DEFENSE

Department of the Army

Draft Programmatic Environmental Impact Statement for Activities and Operations at Yuma Proving Ground, Arizona

AGENCY: Department of the Army, DoD.

ACTION: Notice of Availability.

SUMMARY: The Department of the Army announces the availability of the Draft Programmatic Environmental Impact Statement (DPEIS) for implementation of activities and operations at Yuma Proving Ground (YPG). This document analyzes and evaluates potential environmental impacts associated with short-term and long-term proposed construction projects and proposed changes to YPG's testing and training mission. YPG consists of approximately 840,000 acres of DoD-managed land in the Sonoran Desert in southwestern Arizona.

DATES: The public comment period will end 45 days after publication of an NOA in the Federal Register by the U.S. Environmental Protection Agency.

ADDRESSES: For questions concerning the DPEIS, please contact Mr. Sergio Obregon, U.S. Army Garrison Yuma Proving Ground, National Environmental Policy Act Coordinator, IMYM-PWE, Yuma, AZ 85365-9498. Written comments may be mailed to that address or emailed to ypgnepa@conus.army.mil.

FOR FURTHER INFORMATION CONTACT: Mr. Chuck Wullenjohn, Yuma Proving Ground Public Affairs Office, at (928) 328-6189 Monday through Thursday from 6:30 a.m. to 5:00 p.m., Mountain Standard Time.

SUPPLEMENTARY INFORMATION: The Department of the Army prepared a DPEIS to analyze potential impacts from new construction, changes in testing and training, and activities conducted under private industry partnerships. Potential renewable energy initiatives are also discussed in the DPEIS, but project-specific National Environmental Policy Act (NEPA) analysis separate from the DPEIS will be required prior to implementing any specific renewable energy initiatives.

There are two alternatives analyzed in this DPEIS: (1) No Action which describes the conditions under which no new actions would occur. There would be no changes in testing and training activities conducted at YPG, and (2) the Proposed Action which includes new construction and associated demolition, testing and training activities occurring on YPG, and new testing and training proposed by tenants to meet anticipated testing or training needs. The programmatic components of the DPEIS consist of a detailed analysis of well defined short-term projects and long-term projects with unspecified locations. These are analyzed to identify the maximum potential impact on a broad scale. These activities would be subjected to site-specific NEPA analysis prior to implementation and could include analysis of other reasonable alternatives to the identified action. Six other alternatives were considered but eliminated from further analysis.

The PEIS will be used to develop a future Real Property Master Plan (RPMP) at YPG. This analysis will support the future planning to ensure that YPG considers environmental impacts as it seeks to improve facilities and capabilities for the future. The analysis in the PEIS will also support the alternatives analysis for the RPMP. The DPEIS will also address cumulative impacts for existing, proposed, and reasonably foreseeable projects.

For the Proposed Action, the analysis is structured to allow the Army to select a subset of the proposed activities or, for certain activities, to select from among a range of options with regard to magnitude, frequency, or duration. The Army is not seeking to expand the boundaries of YPG and all proposed activities would be conducted within the boundaries of the installation or its currently authorized airspace. No changes are proposed to ongoing activities conducted at off-post areas in Arizona and California that are used for specific testing activities under conditions not found at YPG. Therefore, activities conducted in these areas are not included in the analysis in the DPEIS.

The potential for environmental impacts is greatest for the following resource areas: soils, air quality, solid and hazardous materials/waste, vegetation, and wildlife. Impacts to these resources may occur as a result of converting existing land use to support military testing and training or from increasing the scope or magnitude of testing activities.

All governmental agencies, interest groups, and individuals are invited to participate in public meetings and/or submit comments in writing. Information on the time and location of two public meetings will be published locally. In addition, YPG is engaged in consultation with federally recognized Native American tribes regarding the Proposed Action. YPG will meet the obligation to consult under Section 106 of the National Historic Preservation Act concurrently with this NEPA process through a Programmatic Agreement.

At this time, a Preferred Alternative has not been selected. The Army will select a Preferred Alternative after consideration of input from government agencies, Native American tribes, non-governmental organizations, and members of the public.

Copies of the DPEIS are available at the Yuma County Library, Main Branch, 2951 S. 21st Drive and the Yuma Proving Ground Post Library. The DPEIS can also be viewed at the following Web site: http://www.yuma.army.mil/mhub_documents.shtml.

Brenda S. Bowen,
Army Federal Register Liaison Officer.

[FR Doc. 2013-19827 Filed 8-15-13; 8:45 am]

BILLING CODE 3710-08-P